DEPARTMENT OF LABOR

Employment and Training Administration

[TA-W-72,251; TA-W-72,251A; TA-W-72,251B; TA-W-72,251C; TA-W-72,251D; TA-W-72,251E; TA-W-72,251F; TA-W-72,251G; TA-W-72,251H; TA-W-72,251I; TA-W-72,251J; TA-W-72,251K; TA-W-72,251L; TA-W-72,251M; TA-W-72,251N]

Amended Certification Regarding Eligibility To Apply for Worker Adjustment Assistance

SUPERVALU, Inc., IT and Finance Departments, Including Workers Whose Unemployment Insurance (UI) Wages Are Paid Through New Albertsons, Inc., Including On-Site Leased Workers From Volt Services Group, Boise, Idaho

SUPERVALU, Inc., Formerly Known As New Albertsons, IT and Finance Departments, Including Workers Whose Unemployment Insurance (UI) Wages Are Paid Through New Albertsons, Inc., Salt Lake, Utah

SUPERVALU, Inc., IT and Finance Departments, Including Workers Whose Unemployment Insurance (UI) Wages Are Paid Through New Albertsons, Inc., Franklin Park, Illinois

SUPERVALU, Inc., IT and Finance Departments, Including Workers Whose Unemployment Insurance (UI) Wages Are Paid Through New Albertsons, Inc., Milford, Ohio

SUPERVALU, Inc., IT and Finance Departments, Including Workers Whose Unemployment Insurance (UI) Wages Are Paid Through New Albertsons, Inc., Dublin, California

SUPERVALU, Inc., Formerly Known As New Albertsons, IT and Finance Departments, Including Workers Whose Unemployment Insurance (UI) Wages Are Paid Through New Albertsons, Inc., Virginia Beach, Virginia

SUPERVALU, Inc., IT and Finance Departments, Including Workers Whose Unemployment Insurance (UI) Wages Are Paid Through New Albertsons, Inc., Including On-Site Leased Workers From Global Resources and Professional Employment Services, Phoenix, Arizona

SUPERVALU, Inc., IT and Finance Departments, Including Workers Whose Unemployment Insurance (UI) Wages Are Paid Through New Albertsons, Inc., Malvern, Pennsylvania

SUPERVALU, Inc., IT and Finance Departments, Including Workers Whose Unemployment Insurance (UI) Wages Are Paid Through New Albertsons, Inc., Portland, Oregon

SUPERVALU, Inc., IT and Finance Departments, Including Workers Whose Unemployment Insurance (UI) Wages Are Paid Through New Albertsons, Inc., Aurora, Colorado

SUPERVALU, Inc., IT and Finance Departments, Including Workers Whose Unemployment Insurance (UI) Wages Are Paid Through New Albertsons, Inc., Lanham, Maryland

SUPERVALU, Inc., IT and Finance Departments, Including Workers Whose Unemployment Insurance (UI) Wages Are Paid Through New Albertsons, Inc., Las Vegas, Nevada

SUPERVALU, Inc., IT and Finance Departments, Including Workers Whose Unemployment Insurance (UI) Wages Are Paid Through New Albertsons, Inc., Spokane, Washington

SUPERVALU, Inc., IT and Finance Departments, Including Workers Whose Unemployment Insurance (UI) Wages Are Paid Through New Albertsons, Inc., Fort Wayne, Indiana

SUPERVALU, Inc., IT and Finance Departments, Including Workers Whose Unemployment Insurance (UI) Wages Are Paid Through New Albertsons, Inc., West Bridgewater, Massachusetts

In accordance with Section 223 of the Trade Act of 1974, as amended (“Act”), 19 U.S.C. 2273, the Department of Labor issued a Certification of Eligibility to Apply for Worker Adjustment Assistance on January 15, 2010, applicable to workers of SUPERVALU, Inc., IT and Finance Departments, including leased workers from Volt Services Group, Boise, Idaho (TA-W-72,251); SUPERVALU, Inc., IT and Finance Departments, Salt Lake, Utah (TA-W-72,251A); SUPERVALU, Inc., IT and Finance Departments, Franklin Park, Illinois (TA-W-72,251B); SUPERVALU, Inc., IT and Finance Departments, Milford, Ohio (TA-W-72,251C); SUPERVALU, Inc., IT and Finance Departments, Dublin, California (TA-W-72,251D); SUPERVALU, Inc., IT and Finance Departments, Virginia Beach, Virginia (TA-W-72,251E); SUPERVALU, Inc., IT and Finance Departments, including leased workers from Global Resources and Professional Employment Services, Phoenix, Arizona (TA-W-72,251F); SUPERVALU, Inc., IT and Finance Departments, Malvern, Pennsylvania (TA-W-72,251G); SUPERVALU, Inc., IT and Finance Departments, Portland, Oregon (TA-W-72,251H); SUPERVALU, Inc., IT and Finance Departments, Aurora, Colorado (TA-W-72,251I); SUPERVALU, Inc., IT and Finance Departments, Lanham, Maryland (TA-W-72,251J); SUPERVALU, Inc., IT and Finance Departments, Las Vegas, Nevada (TA-W-72,251K); SUPERVALU, Inc., IT and Finance Departments, Spokane, Washington (TA-W-72,251L); SUPERVALU, Inc., IT and Finance Departments, Fort Wayne, Indiana (TA-W-72,251M); SUPERVALU, Inc., IT and Finance Departments, West Bridgewater, Massachusetts (TA-W-72,251N). The notice was published in the Federal Register on February 16, 2010 (75 FR 7037).

At the request of the State agency, the Department reviewed the certification for workers of the subject firm. The workers are engaged in employment related to the supply of information technology and finance services.

New information shows that in June 2006, SUPERVALU, Inc. purchased New Albertsons, Inc. Some workers separated from employment at the subject firms have their wages reported under a separate unemployment insurance (UI) tax account for New Albertsons, Inc.

Accordingly, the Department is amending this certification to properly reflect this matter.

The intent of the Department's certification is to include all workers of the subject firm who were adversely affected by acquisition in services related to the supply of information technology and finance.

The amended notice applicable to TA-W-72,251 is hereby issued as follows:

All workers of SUPERVALU, Inc., IT and Finance Departments, including workers whose unemployment insurance (UI) wages are paid through New Albertsons, Inc., including leased workers from Volt Services Group, Boise, Idaho (TA-W-72,251); SUPERVALU, Inc., IT and Finance Departments, including workers whose unemployment insurance (UI) wages are paid through New Albertsons, Inc., Salt Lake, Utah (TA-W-72,251A); SUPERVALU, Inc., IT and Finance Departments, including workers whose unemployment insurance (UI) wages are paid through New Albertsons, Inc., Franklin Park, Illinois (TA-W-72,251B); SUPERVALU, Inc., IT and Finance Departments, including workers whose unemployment insurance (UI) wages are paid through New Albertsons, Inc., Milford, Ohio (TA-W-72,251C); SUPERVALU Inc., IT and Finance Departments, including workers whose unemployment insurance (UI) wages are paid through New Albertsons, Inc., Dublin, California (TA-W-72,251D); SUPERVALU, Inc., IT and Finance Departments, including workers whose unemployment insurance (UI) wages are paid through New Albertsons, Inc., Virginia Beach, Virginia (TA-W-72,251E); SUPERVALU, Inc., IT and Finance Departments, including workers whose unemployment insurance (UI) wages are paid through New Albertsons, Inc., including leased workers from Global Resources and Professional Employment Services, Phoenix, Arizona (TA-W-72,251F); SUPERVALU, Inc., IT and Finance Departments, including workers whose unemployment insurance (UI) wages are paid through New Albertsons, Inc., Malvern, Pennsylvania (TA-W-72,251G); SUPERVALU, Inc., IT and Finance Departments, including workers whose unemployment insurance (UI) wages are paid through New Albertsons, Inc., Portland, Oregon (TA-W-72,251H); SUPERVALU, Inc., IT and Finance Departments, including workers whose unemployment insurance (UI) wages are paid through New Albertsons, Inc., Aurora, Colorado (TA-W-72,251I); SUPERVALU, Inc., IT and Finance Departments, including workers whose unemployment insurance (UI) wages are paid through New Albertsons, Inc., Lanham, Maryland (TA-W-72,251J); SUPERVALU, Inc., IT and Finance Departments, including workers whose unemployment insurance (UI) wages are through New Albertsons, Inc., Las Vegas, Nevada (TA-W-72,251K); SUPERVALU, Inc., IT and Finance Departments, including workers whose unemployment insurance (UI) wages are paid through New Albertsons, Inc., Spokane, Washington (TA-W-72,251L); SUPERVALU, Inc., IT and Finance Departments, including workers whose unemployment insurance (UI) wages are paid through New Albertsons, Inc., Fort Wayne, Indiana (TA-W-72,251M); SUPERVALU, Inc., IT and Finance Departments, including workers whose unemployment insurance (UI) wages are paid through New Albertsons, Inc., West Bridgewater, Massachusetts (TA-W-72,251N), who became totally or partially separated from employment on or after September 2, 2008 through January 15, 2012, and all workers in the group threatened with total or partial separation from employment on the date of certification through two years from the date of certification, are eligible to apply for adjustment assistance under Chapter 2 of Title II of the Trade Act of 1974, as amended.

Signed at Washington, DC this 7th day of September 2010.
Elliott S. Kushner,
Certifying Officer, Division of Trade Adjustment Assistance.

[FR Doc. 2010-23499 Filed 9-20-10; 8:45 am]

BILLING CODE 4510-FN-P